DEPARTMENT OF TRANSPORTATION

Federal Aviation Administration

14 CFR Part 39

[Docket No. 2000-NM-115-AD; Amendment 39-12518; AD 2001-24-02]

RIN 2120-AA64

Airworthiness Directives; Boeing Model 707-100, -100B, -300, and -E3A (Military Airplanes); 727-100 and -200; 737-200, -200C, -300, -400, and -500; 747SP and 747SR; 747-100B, -200B, -200C, -200F, -300, -400, and -400D; 757-200 and -200PF; and 767-200 and -300 Series Airplanes

AGENCY: Federal Aviation Administration, DOT.

ACTION: Final rule.

SUMMARY: This amendment adopts a new airworthiness directive (AD), applicable to certain Boeing Model 707-100, -100B, -300, and -E3A (military airplanes); 727-100 and -200; 737-200, -200C, -300, -400, and -500; 747SP and 747SR; 747-100B, -200B, -200C, -200F, -300, -400, and -400D; 757-200 and -200PF; and 767-200 and -300 series airplanes. This AD requires inspection of the attachment of the shoulder restraint harness to the mounting bracket on certain observer and attendant seats to determine if a C-clip is used in the attachment, and corrective action, if necessary. This action is necessary to prevent detachment of the shoulder restraint harness of the attendant or observer seat from its mounting bracket during service, which could result in injury to the occupant of the seat. This action is intended to address the identified unsafe condition.

DATES: Effective January 4, 2002.

The incorporation by reference of certain publications listed in the regulations is approved by the Director of the Federal Register as of January 4, 2002.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Keith Ladderud, Aerospace Engineer, Airframe Branch, ANM-120S, FAA, Seattle Aircraft Certification Office, 1601 Lind Avenue, SW., Renton, Washington 98055-4056; telephone (425) 227-2780; fax (425) 227-1181.

SUPPLEMENTARY INFORMATION: A proposal to amend part 39 of the Federal Aviation Regulations (14 CFR part 39) to include an airworthiness directive (AD) that is applicable to certain Boeing Model 707-100, -100B, -300, and -E3A (military airplanes); 727-100 and -200; 737-200, -200C, -300, -400, and -500; 747SP and 747SR; 747-100B, -200B, -200C, -200F, -300, -400, and -400D; 757-200 and -200PF; and 767-200 and -300 series airplanes was published in the Federal Register on June 27, 2001 (66 FR 34128). That action proposed to require inspection of the attachment of the shoulder restraint harness to the mounting bracket on certain observer and attendant seats to determine if a C-clip is used in the attachment, and corrective action, if necessary.

Comments

Interested persons have been afforded an opportunity to participate in the making of this amendment. Due consideration has been given to the comments received.

One commenter states that the proposed AD does not apply to its fleet.

Withdraw Proposed AD

Two commenters request that the FAA withdraw the proposed AD. One commenter states that, on its fleet of Model 757 series airplanes, it has not observed any in-service problems with the shoulder restraint harness detaching from the mounting bracket. Therefore, it does not accept that the proposed modification is necessary.

The FAA does not concur. Though the commenter has not observed any problems related to the identified unsafe condition, at least two other operators have. Therefore, we find that it is necessary to require the modification in this AD.

Another commenter requests that the FAA withdraw the proposed rule because Boeing needs to revise the referenced service bulletins by identifying the individual part numbers of affected seats, rather than identifying the airplanes by serial numbers. The commenter is concerned that the service bulletins and proposed AD identify the subject seats both as “attendant” and “observer” seats. The commenter notes that the term “observer seat” could be construed to include observer seats in the cockpit, which have a different restraint system. The commenter is also concerned that, because the service bulletins identify affected airplanes, not seat part numbers, operators that move seats from one airplane to another could inadvertently install an unmodified seat on an airplane on which all other subject seats have already been modified.

We do not concur that it is necessary to withdraw the proposed rule. The restraint system is attached to the airplane, not to the attendant and observer seats; therefore, identifying the seats by part number would not provide any benefit. Also, the fact that when a seat is moved from one airplane to another, the restraint system for that seat remains with the airplane, should alleviate the commenter's concerns about exchanging seats between airplanes. Furthermore, although the commenter states that airplanes in its fleet have a restraint system on the cockpit observer seats other than the one addressed by this AD, other operators do have airplanes equipped with cockpit observer seats that employ the restraint system identified in this AD. No change to the AD is necessary in this regard.

Extend Compliance Time

One of the commenters who requests withdrawal of the proposed rule asks us to extend the compliance time for the proposed AD if we do not concur to withdraw the proposed rule. The commenter suggests that we extend the compliance time from 18 to 24 months. The commenter's rationale is that it has not observed the unsafe condition on any of its airplane fleet (Model 757 series airplanes).

We concur with the request to extend the compliance time of this AD. In developing a new compliance time for this AD, we considered not only the manufacturer's recommendation, but the degree of urgency associated with addressing the subject unsafe condition, and the average utilization of the affected fleet. In light of all of these factors, we find a 36-month compliance time for initiating the required actions to be warranted, in that it represents an appropriate interval of time allowable for affected airplanes to continue to operate without compromising safety. We have revised paragraph (a) of this AD accordingly.

Revise Preamble of AD

One commenter requests that the “Differences Between The Service Bulletins and This Proposed AD” section of the proposed rule be revised to state that only two instances of detachment of the shoulder restraint harness of the attendant or observer seat from the mounting bracket have been reported, though this design has been in use for more than 40 years.

We acknowledge the commenter's remarks on the number of occurrences of the unsafe condition and the duration of service of the design. However, the section referred to by the commenter is not restated in this final rule. Therefore, no change to the AD is necessary in this regard.

Conclusion

After careful review of the available data, including the comments noted above, the FAA has determined that air safety and the public interest require the adoption of the rule as proposed.

Cost Impact

The table below estimates the cost impact of the inspection that is required by this AD. The average labor rate is $60 per work hour.

Base model | Number of airplanes/worldwide | Number of airplanes/ U.S. registry | Number of work hours (@ 0.25 work hour/seat) | Total cost per airplane | Total fleet cost
707 | 250 | 21 | 1 | $60 | $1,260
727 | 1,986 | 881 | 1 | 60 | 52,860
737 | 921 | 437 | 2 | 120 | 52,440
747 | 533 | 83 | 5 | 300 | 24,900
757 | 262 | 257 | 2 | 120 | 30,840
767 | 573 | 207 | 3 | 180 | 37,260

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-24-02 Boeing: Amendment 39-12518. Docket 2000-NM-115-AD.

Applicability: Airplanes as listed in the table below; certificated in any category.

Table 1.—Applicability of This AD
Models and series | As listed in the following Boeing service bulletins
Model 707-100, -100B, -300, and -E3A (Military) | 3499, Revision 1, dated May 17, 2001.
Model 727-100 and 727-200 | 727-25-0295, Revision 1, dated May 17, 2001.
Model 737 -200, -200C, -300, -400, and -500 | 737-25-1412, Revision 1, dated May 17, 2001.
Model 747SR, 747SP, and 747-100B, -200B, -200C, -200F, -300, -400, and -400D | 747-25-3244, Revision 1, dated May 17, 2001.
Model 757-200 and 757-200PF | 757-25-0223, Revision 1, dated May 17, 2001.
Model 767-200 and -300 | 767-25-0288, Revision 1, dated May 17, 2001

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent detachment of the shoulder restraint harness of the attendant or observer seat from its mounting bracket during service, which could result in injury to the occupant of the seat, accomplish the following:

Inspection and Corrective Action

(a) Within 36 months after the effective date of this AD, do a one-time general visual inspection of the attachment of the shoulder restraint harness of each observer or attendant seat to determine if a C-clip is used in the attachment. Do the inspection according to Boeing Service Bulletin 3499, 727-25-0295, 737-25-1412, 747-25-3244, 757-25-0223, or 767-25-0288; all Revision 1; all dated May 17, 2001; as applicable. If the shoulder harness is looped through the bracket and attached to itself with a C-clip, do paragraph (a)(1) or (a)(2) of this AD.

(1) Remove and discard the C-clip, and reattach the shoulder harness to the mounting bracket, according to the service bulletin.

Note 2: Removing and discarding the C-clip and reattaching the shoulder harness to the mounting bracket; according to Boeing Special Attention Service Bulletin 3499, 727-25-0295, 737-25-1412, 747-25-3244, 757-25-0233, or 767-25-0288; all dated April 27, 2000; as applicable; is acceptable for compliance with the requirements of paragraph (a)(1) of this AD.

(2) Install a second C-clip with the clip's opening positioned in the opposite direction of the opening of the existing C-clip, according to the optional method described in Steps 19 and 20 of Figure 1 or 2 of the applicable service bulletin.

Spares

(b) As of the effective date of this AD, do not attach the shoulder restraint harness of an observer or attendant seat on any airplane to the mounting bracket using a C-clip, unless the requirements of paragraph (a)(2) of this AD are done.

Alternative Methods of Compliance

(c) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Service Bulletin 3499, Revision 1, dated May 17, 2001; Boeing Service Bulletin 727-25-0295, Revision 1, dated May 17, 2001; Boeing Service Bulletin 737-25-1412, Revision 1, dated May 17, 2001; Boeing Service Bulletin 747-25-3244, Revision 1, dated May 17, 2001; Boeing Service Bulletin 757-25-0223, Revision 1, dated May 17, 2001; or Boeing Service Bulletin 767-25-0288, Revision 1, dated May 17, 2001; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on January 4, 2002.

Issued in Renton, Washington, on November 16, 2001.
Kalene C. Yanamura,
Acting Manager, Transport Airplane Directorate, Aircraft Certification Service.

[FR Doc. 01-29324 Filed 11-29-01; 8:45 am]

BILLING CODE 4910-13-P